DEPARTMENT OF STATE

[Delegation of Authority No. 524-2]

Delegation of Authorities Under Section 102 of the Mutual Educational and Cultural Exchange Act of 1961

By virtue of the authority vested in the Assistant Secretary of State for Educational and Cultural Affairs, including by Delegation of Authority No. 236-3 (August 28, 2000), and to the extent permitted by law, I hereby delegate to the Deputy Assistant Secretary for Private Sector Exchange and the Deputy Assistant Secretary for Professional and Cultural Exchanges the authorities and functions in section 102 of the Mutual Educational and Cultural Exchange Act of 1961 (22 U.S.C. 2452), relating to the provision by grant, contract or otherwise for educational and cultural exchanges.

Any authorities covered by this delegation may also be exercised by the Secretary, the Deputy Secretary, the Deputy Secretary for Management and Resources, the Under Secretary for Public Diplomacy and Public Affairs, and the Assistant Secretary for Educational and Cultural Affairs.

This Delegation of Authority does not revoke or otherwise affect any other delegation of authority currently in effect.

Any reference in this Delegation of Authority to any statute or delegation of authority shall be deemed to be a reference to such statute or delegation of authority as amended from time to time.

This Delegation shall be published in the Federal Register.

Lee A. Satterfield,
Assistant Secretary for Educational and Cultural Affairs, U.S. Department of State.

[FR Doc. 2022-12932 Filed 6-15-22; 8:45 am]

BILLING CODE 4710-05-P